FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than April 20, 2021.

A. Federal Reserve Bank of Minneapolis (Chris P. Wangen, Assistant Vice President), 90 Hennepin Avenue, Minneapolis, Minnesota 55480-0291:

1. The Bank Share Marital Trust under the R. James Gesell Declaration of Trust dated January 13, 2000, as amended (Bank Share Marital Trust), and Andrew J. Gesell, individually and as co-trustee with Heidi R. Gesell of the Bank Share Marital Trust, all of St. Paul, Minnesota; to acquire additional voting shares of Cherokee Bancshares, Inc., and thereby indirectly acquire additional voting shares of BankCherokee, both of St. Paul, Minnesota. Additionally, Bank Share Marital Trust; Charles R. Gesell, individually and as trustee of the Charles R. Gesell Trust Declaration under agreement dated December 30, 1999, both of Santa Rosa, California; and Peter J. Gesell, individually and as trustee of the Peter J. Gesell Trust Declaration under agreement dated December 30, 1999, both of Duluth, Minnesota; to join the Gesell Family Shareholder Group, a group acting in concert, to acquire additional voting shares of Cherokee Bancshares, Inc., and thereby indirectly acquire voting shares of BankCherokee.

2. DDS Trust, Preston B. Steele as trustee, both of Huron, South Dakota; to acquire voting shares of Leackco Bank Holding Company, Inc., Huron, South Dakota, and thereby indirectly acquire voting shares of American Bank & Trust, Wessington Springs, South Dakota

B. Federal Reserve Bank of Atlanta (Kathryn Haney, Assistant Vice President) 1000 Peachtree Street NE, Atlanta, Georgia 30309. Comments can also be sent electronically to Applications.Comments@atl.frb.org:

1. Dennis Randall Aucoin, Slaughter, Louisiana; to retain voting shares of Clinton Bancshares, Inc., and thereby indirectly retain voting shares of Landmark Bank, both of Clinton, Louisiana.

2. Lynette Elaine Ligon, Robert David Ligon, both of Clinton, Louisiana; and Alison Leslie Ligon, Ethel, Louisiana; to join the Ligon Family Control Group, a group acting in concert, to retain voting control of Clinton Bancshares, Inc., and thereby indirectly retain voting shares of Landmark Bank, both of Clinton, Louisiana.

Board of Governors of the Federal Reserve System, March 30, 2021.
Michele Taylor Fennell,
Deputy Associate Secretary of the Board.

[FR Doc. 2021-06888 Filed 4-2-21; 8:45 am]

BILLING CODE P